ENVIRONMENTAL PROTECTION AGENCY

[FRL-7590-2]

Underground Injection Control Program: Hazardous Waste Injection Restrictions; Petition for Exemption—Class I Hazardous Waste Injection, Rubicon, Inc.

AGENCY: Environmental Protection Agency.

ACTION: Notice of final decision on Rubicon Inc., no migration petition reissuance.

SUMMARY: Notice is hereby given that an exemption to the land disposal restrictions under the 1984 Hazardous and Solid Waste Amendments to the Resource Conservation and Recovery Act has been granted to Rubicon, Inc., for five Class I injection wells located at Geismar, Louisiana. As required by 40 CFR part 148, the company has adequately demonstrated to the satisfaction of the Environmental Protection Agency by petition and supporting documentation that, to a reasonable degree of certainty, there will be no migration of hazardous constituents from the injection zone for as long as the waste remains hazardous. This final decision is for injection Well Nos. 1, 2, 3, 4, and 5, all located at the Rubicon facility in Geismar, Louisiana.

As required by 40 CFR 148.22(b) and 124.10, a public notice was issued September 12, 2003.

The public comment period closed on November 4, 2003. No comments were received. This decision constitutes final Agency action and there is no Administrative appeal.

DATES: This action is effective as of November 12, 2003.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Rafael Casanova, Acting Chief, Ground Water/UIC Section, EPA—Region 6, telephone (214) 665-7165.

Oscar Ramirez Jr.,
Acting Director, Water Quality Protection Division (6WQ).

[FR Doc. 03-29180 Filed 11-20-03; 8:45 am]

BILLING CODE 6560-50-U